DEPARTMENT OF COMMERCE

National Oceanic and Atmospheric Administration

50 CFR Part 622

[Docket No. 160426363-7275-02]

RIN 0648-XS008

Coastal Migratory Pelagic Resources of the Gulf of Mexico and Atlantic Region; 2019-2020 Commercial Quota Reduction for King Mackerel Run-Around Gillnet Fishery

AGENCY: National Marine Fisheries Service (NMFS), National Oceanic and Atmospheric Administration (NOAA), Commerce.

ACTION: Temporary rule; commercial quota reduction.

SUMMARY: NMFS implements an accountability measure (AM) through this temporary rule for commercial harvest of king mackerel in the southern zone of the Gulf of Mexico (Gulf) exclusive economic zone (EEZ) using run-around gillnet gear. NMFS has determined that the commercial annual catch limit (equivalent to the commercial quota) for king mackerel using run-around gillnet gear in the southern zone of the Gulf EEZ was exceeded in the 2018-2019 fishing year. Therefore, NMFS reduces the southern zone commercial annual catch limit (ACL) for king mackerel fishing using run-around gillnet gear in the Gulf EEZ during the 2019-2020 fishing year. This commercial ACL reduction is necessary to protect the Gulf king mackerel resource.

DATES: The temporary rule is effective from 6 a.m. on January 21, 2020, through June 30, 2020.

FOR FURTHER INFORMATION CONTACT: Kelli O'Donnell, NMFS Southeast Regional Office, telephone: 727-824-5305, email: kelli.odonnell@noaa.gov.

SUPPLEMENTARY INFORMATION: The fishery for coastal migratory pelagic fish in the Gulf includes king mackerel, Spanish mackerel, and cobia, and is managed under the Fishery Management Plan for the Coastal Migratory Pelagic Resources of the Gulf of Mexico and Atlantic Region (FMP). The FMP was prepared by the Gulf of Mexico and South Atlantic Fishery Management Councils, and is implemented by NMFS under the authority of the Magnuson-Stevens Fishery Conservation and Management Act (Magnuson-Stevens Act) by regulations at 50 CFR part 622. All weights for Gulf migratory group king mackerel (Gulf king mackerel) below apply as either round or gutted weight.

The king mackerel commercial ACL in the Gulf is divided into separate ACLs for hook-and-line and run-around gillnet gear. The use of run-around gillnets for king mackerel is restricted to the Gulf southern zone. The Gulf southern zone, which includes the EEZ off Collier and Monroe Counties in south Florida, encompasses an area of the EEZ south of a line extending due west from the boundary of Lee and Collier Counties on the Florida west coast, and south of a line extending due east from the boundary of Monroe and Miami-Dade Counties on the Florida east coast (50 CFR 622.369(a)(1)(iii)).

For the 2018-2019 fishing season, the commercial gillnet quota for Gulf king mackerel was 585,900 lb (265,760 kg). Regulations at 50 CFR 622.8(b) and 622.388(a)(1) require NMFS to close any component of the king mackerel commercial sector when its respective quota has been reached, or is projected to be reached, by filing a notification with the Office of the Federal Register. On February 8, 2019, NMFS determined that the 2018-2019 commercial gillnet quota had been reached, and closed the commercial gillnet component for the remainder of the 2018-2019 fishing year (84 FR 3723, February 13, 2019).

NMFS' most recent landings data for the 2018-2019 fishing year indicate that the commercial gillnet component exceeded the 585,900-lb (265,760-kg) quota by 45,357 lb (20,573 kg). The AM specified in 50 CFR 622.388(a)(1)(iii) states if commercial landings of king mackerel caught by run-around gillnet gear exceed the commercial gillnet ACL, then NMFS will reduce the commercial gillnet ACL in the following fishing year by the amount of the overage.

The 2019-2020 commercial gillnet ACL for Gulf king mackerel in the southern zone is 575,400 lb (260,997 kg) (50 CFR 622.384(b)(1)(iii)(B)). The fishing season is currently closed from July 1, 2019, through January 20, 2020, and will open at 6 a.m. on January 21, 2020. The 2019-2020 fishing year runs through June 30, 2020.

Consistent with the AM, NMFS reduces the 2019-2020 commercial gillnet quota by the amount of the 2018-2019 commercial gillnet ACL overage to 530,043 lb (240,423 kg). If king mackerel commercial gillnet landings do not exceed the ACL in the 2019-2020 fishing year, then in the 2020-2021 fishing year, the component's commercial quota will again be 575,400 lb (260,997 kg) as specified in 50 CFR 622.384(b)(1)(iii)(B).

Classification

The Regional Administrator for the NMFS Southeast Region has determined this temporary rule is necessary for the conservation and management of Gulf king mackerel and is consistent with the FMP, the Magnuson-Stevens Act, and other applicable laws.

This action is taken under 50 CFR 622.8(b) and 622.388(a)(1)(iii) and is exempt from review under Executive Order 12866.

These measures are exempt from the procedures of the Regulatory Flexibility Act because the temporary rule is issued without prior notice and opportunity for public comment.

This action responds to the best scientific information available. The NOAA Assistant Administrator for Fisheries (AA) finds that the need to immediately implement this action to reduce the commercial ACL for the fishery component that uses run-around gillnet gear constitutes good cause to waive the requirements to provide prior notice and opportunity for public comment pursuant to the authority set forth in 5 U.S.C. 553(b)(B), because prior notice and opportunity for public comment on this temporary rule is unnecessary. Such procedure is unnecessary because the rule implementing the commercial ACL and the associated AM for the commercial ACL reduction has already been subject to public notice and comment, and all that remains is to notify the public of the commercial ACL reduction.

Authority: 16 U.S.C. 1801 et seq.

Dated: November 6, 2019.
Jennifer M. Wallace,
Acting Director, Office of Sustainable Fisheries, National Marine Fisheries Service.

[FR Doc. 2019-24516 Filed 11-12-19; 8:45 am]

BILLING CODE 3510-22-P